DEPARTMENT OF TRANSPORTATION

Federal Aviation Administration

Fourteenth Meeting: EUROCAE WG-72: RTCA Special Committee 216: Aeronautical Systems Security (Joint Meeting)

AGENCY: Federal Aviation Administration (FAA), DOT.

ACTION: Notice of EUROCAE WG-72: RTCA Special Committee 216: Aeronautical Systems Security (Joint Meeting).

SUMMARY: The FAA is issuing this notice to advise the public of a meeting of EUROCAE WG-72: RTCA Special Committee 216: Aeronautical Systems Security (Joint Meeting).

DATES: The meeting will be held October 12-14, 2010 starting at 9 a. m. to 5 p. m.

ADDRESSES: The meeting will be held at Third Floor, Conference Room 6 (CR/6) International Civil Aviation Organization (ICAO), Headquarters, 999 University Street, Montréal, Quebec H3C 5H7, Canada, Internet ICAO home page: http://www.icao.int.

FOR FURTHER INFORMATION CONTACT: RTCA Secretariat, 1828 L Street, NW., Suite 805, Washington, DC, 20036; telephone (202) 833-9339; fax (202) 833-9434; Web site http://www.rtca.org.

SUPPLEMENTARY INFORMATION: Pursuant to section 10(a) (2) of the Federal Advisory Committee Act (Pub. L. 92-463, 5 U.S.C., Appendix 2), notice is hereby given for a EUROCAE WG-72: RTCA Special Committee 216: Aeronautical Systems Security (Joint Meeting) meeting. The meeting is expected to start at 9 on the first day and to finish by 17:00 each day.

A complete list of participants must be supplied in advance to support preparation of building entry passes. Please send your intentions to attend by Monday, October 1, 2010 to Jean-Paul.Moreaux@airbus.com (alt: amber.l.kemmerling@boeing.com). Non-pre-registered attendees will not be admitted.

The agenda will include:

Day 1:

• Welcome/Introductions/Administrative Remarks.

• Agenda Overview and Approval of the Summary of the 13th meeting held June 8-11, 2010, (RTCA Paper No. 137-10/SC216-029).

• Report on the PMC/ICC action on TOR:

• Publication Progress and Update.

• Subgroup and Action Item Reports.

• Plenary review of disposition of comments to ED202.

Days 2 & 3:

• Subgroup Meetings/Break-outs.

• Subgroup Reports on Break-outs.

• Establish Dates, Location and Agenda for Next Meeting(s).

• Any Other Business.

Attendance is open to the interested public but limited to space availability. With the approval of the chairmen, members of the public may present oral statements at the meeting. Persons wishing to present statements or obtain information should contact the person listed in the FOR FURTHER INFORMATION CONTACT section. Members of the public may present a written statement to the committee at any time.

Issued in Washington, DC, on September 8, 2010.
Robert L. Bostiga,
RTCA Advisory Committee.

[FR Doc. 2010-22879 Filed 9-13-10; 8:45 am]

BILLING CODE 4910-13-P